SECURITIES AND EXCHANGE COMMISSION

[SEC File No. 270-563, OMB Control No. 3235-0649]

Proposed Collection; Comment Request; Extension: Rule 17g-5

Upon Written Request, Copies Available From: Securities and Exchange Commission, Office of FOIA Services, 100 F Street NE, Washington, DC 20549-2736

Notice is hereby given that pursuant to the Paperwork Reduction Act of 1995 (44 U.S.C. 3501 et seq.), the Securities and Exchange Commission (“Commission”) is soliciting comments on the existing collection of information provided for in Rule 17g-5 (17 CFR 240.17g-5) under the Securities Exchange Act of 1934 (15 U.S.C. 78a et seq.) (“Exchange Act”). The Commission plans to submit this existing collection of information to the Office of Management and Budget for extension and approval.

Rule 17g-5(a)(3) and (e) contain collection of information requirements.¹ Specifically, Rule 17g-5(a)(3) prohibits a person within a nationally recognized statistical rating organization (“NRSRO”) from having a conflict of interest relating to the issuance or maintenance of a credit rating for a security or money market instrument issued by an asset pool or as part of any asset-backed securities transaction that was paid for by the issuer, sponsor, or underwriter of the security or money market instrument unless certain information and representations relating to the security are disclosed or furnished.

¹ See 17 CFR 240.17g-5(a)(3) and (e).

Currently, there are 6 credit rating agencies registered as NRSROs in the issuer of asset-backed securities category of credit ratings, and it is estimated based on recent issuance data that there are approximately 1,480 new asset-backed securities transactions per year that implicate Rule 17g-5(a)(3). Based on staff experience, the Commission estimates that the total annual hour burden to comply with Rule 17g-5(a)(3) will be 61,899 hours. The Commission further estimates that this annual hour burden will result in a total annual cost of $14,126,168. This cost is attributable to costs that may be incurred by NRSROs and arrangers of asset-backed securities posting information on a password-protected website, as required by Rule 17g-5, and preparing and procuring representations to determine whether an exemption under the rule applies, as well as costs incurred by NRSROs preparing certifications required under the rule to gain access to websites maintained by other NRSROs or arrangers of asset-backed securities.

Written comments are invited on: (a) whether the proposed collection of information is necessary for the proper performance of the functions of the Commission, including whether the information shall have practical utility; (b) the accuracy of the Commission's estimates of the burden of the proposed collection of information; (c) ways to enhance the quality, utility, and clarity of the information on respondents; and (d) ways to minimize the burden of the collection of information on respondents, including through the use of automated collection techniques or other forms of information technology. Consideration will be given to comments and suggestions submitted by July 8, 2024.

An agency may not conduct or sponsor, and a person is not required to respond to, a collection of information unless it displays a currently valid OMB control number.

Please direct your written comments to: Dave Bottom, Director/Chief Information Officer, Securities and Exchange Commission, c/o John Pezzullo, 100 F St NE, Washington, DC 20549 or send an email to: PRA_Mailbox@sec.gov.

Dated: May 1, 2024.
Sherry R. Haywood,
Assistant Secretary.

[FR Doc. 2024-09850 Filed 5-6-24; 8:45 am]

BILLING CODE 8011-01-P